DEPARTMENT OF ENERGY

Federal Energy Regulatory Commission

Notice of Scoping Meetings, Site Visit, Scoping Document 1 and Soliciting Scoping Comments

May 9, 2003.

Take notice that the following hydroelectric application has been filed with the Commission and is available for public inspection:

a. Type of Application: Surrender application.

b. Project No.: 696-013.

c. Date filed: December 31, 2003.

d. Applicant: PacifiCorp.

e. Name of Project: American Fork Hydroelectric Project.

f. Location: On American Fork Creek, near the City of American Fork, Utah County, Utah, about 3 miles east of Highland, Utah. The project affects about 28.8 acres of federal lands within the Uinta National Forest and 2,000 feet of the project flowline passes through the Timpanogos Cave National Monument, administered by the U.S. Department of the Interior, National Park Service (NPS).

g. Filed Pursuant to: Federal Power Act, 16 U.S.C. 791(a)-825(r).

h. Applicant Contact Monte Garrett, Licensing Manager, PacifiCorp, 825 NE. Multnomah, suite 1500, Portland, Oregon, 97232 (503) 813-6629.

i. FERC Contact: Kenneth Hogan (202) 502-8434, e-mail at kenneth.hogan@ferc.gov.

j. Deadline for filing scoping comments: 60 days from the date of this notice.

All documents (original and eight copies) should be filed with: Magalie R. Salas, Secretary, Federal Energy Regulatory Commission, 888 First Street, NE., Washington, DC 20426.

The Commission's rules of practice and procedure require all interveners filing documents with the Commission to serve a copy of that document on each person on the official service list for the project. Further, if an intervener files comments or documents with the Commission relating to the merits of an issue that may affect the responsibilities of a particular resource agency, they must also serve a copy of the document on that resource agency.

Scoping comments may be filed electronically via the Internet in lieu of paper. See 18 CFR 385.2001(a)(1)(iii) and the instructions on the Commission's web site, http://www.ferc.gov, under the “e-Filing” link.

k. This application is not ready for environmental analysis at this time.

l. Description of the Project: The existing project consists of: (1) A 29-foot 9-inch wide and 4.5-foot-high reinforced concrete diversion dam; (2) a 6-foot-wide 6-foot-long intake; (3) a 6-foot-long 6-foot-wide manually operated sluice gate; (4) a 2-foot-long 2-foot-wide manually operated upstream sluice gate; (5) a 28-inch-diameter welded steel pipe flowline approximately 11,666-foot-long which transitions into a 33-inch-diameter riveted steel penstock 253-foot-long that transitions into a 20-inch-diameter riveted steel penstock 61-foot-long; (6) an approximately 2,700-square-foot brick powerhouse; (7) one turbine generator unit with a rated capacity of 1,050 kilowatts; and (8) other appurtenances.

m. A copy of the application is on file with the Commission and is available for public inspection. This filing is available for review at the Commission or may be viewed on the Commission's Web site at http://www.ferc.gov, using the “FERRIS” link. Enter the docket number excluding the last three digits in the docket number filed to access the document. For assistance, contact FERC Online Support at FERCOnlineSupport@ferc.gov or toll-free at (866) 208-3676, or for TTY, contact (202) 502-8659. A copy is also available for inspection and reproduction at the address in item h above.

n. Scoping Process: The Commission intends to prepare an environmental assessment (EA) for the surrender of the license for the project in accordance with the National Environmental Policy Act. The EA may consider reasonable alternatives to the proposed action.

Scoping Meetings and Site Visit

FERC staff will conduct a site visit, an agency scoping meeting and a public scoping meeting. The site visit will consist of a tour of project facilities and lands and any pertinent surrounding features. The agency scoping meeting will focus on resource agency and non-governmental organization (NGO) concerns, while the public scoping meeting is primarily for public input. All interested individuals, organizations, and agencies are invited to attend one or both of the meetings, and to assist the staff in identifying the scope of the environmental issues that should be analyzed in the EA. The times and locations of the site visit and meetings are as follows:

Site Visit:

June 3, 2003.

Time: 10 a.m.

Timpanogos Cave National Monument's Visitors Center, Rural Route 3, Box 200, American Fork, Utah.

Public Scoping Meeting:

June 3, 2003.

Time: 7 p.m.

American Fork High School, 510 North 600 East, American Fork, Utah 84003. (801) 756-8547.

Agency Scoping Meeting:

June 4, 2003.

Time: 10 a.m.

American Fork High School, 510 North 600 East, American Fork, Utah 84003. (801) 756-8547.

Copies of SD1 outlining the subject areas to be addressed in the EA were distributed to the parties on the Commission's mailing list. Copies of SD1 are available for review at the Commission or may be viewed on the Commission's Web site at http://www.ferc.gov, using the “FERRIS” link. Enter the docket number excluding the last three digits in the docket number filed to access the document. For assistance, contact FERC Online Support at FERCOnlineSupport@ferc.gov or toll-free at (866) 208-3676, or for TTY, contact (202) 502-8659.

As part of scoping the staff will: (1) Summarize the environmental issues tentatively identified for analysis in the EA; (2) solicit from comments all available information, especially quantifiable data, on the resources at issue; (3) encourage comments from experts and the public on issues that should be analyzed in the EA, including viewpoints in opposition to, or in support of, the staff's preliminary views; (4) determine the resource issues to be addressed in the EA; and (5) identify those issues that require a detailed analysis, as well as those issues that do not require a detailed analysis. Consequently, interested entities are requested to file with the Commission any data and information concerning environmental resources and land uses in the project area and the subject project's impacts to the aforementioned.

o. The tentative schedule for preparing the American Fork Surrender Application EA is:

Major milestone | Target date
Ready for Environmental Analysis Notice | October, 2003.
Draft EA Issued | January, 2004.
Final EA Issued | April, 2004.

Magalie R. Salas,
Secretary.

[FR Doc. 03-12335 Filed 5-15-03; 8:45 am]

BILLING CODE 6717-01-P